DEPARTMENT OF THE INTERIOR

Fish and Wildlife Service

[FWS-R2-ES-2011-N150; 20124-1115-0000-F4]

Draft Conservation Plan and Draft Environmental Assessment; Dunes Sagebrush Lizard, Texas

AGENCY: Fish and Wildlife Service, Interior.

ACTION: Notice of availability; announcement of public meetings.

SUMMARY: The Texas Comptroller of Public Accounts (Applicant) has applied for an Enhancement of Survival Permit under the Endangered Species Act (Act) of 1973, as amended. The permit application includes the draft Texas Conservation Plan for the Dunes Sagebrush Lizard (TCP). The draft TCP will function as a Candidate Conservation Agreement with Assurances between the U.S. Fish and Wildlife Service (Service) and the Applicant for the dunes sagebrush lizard (Sceloporus arenicolus) throughout its range in Texas. The Applicant proposes to implement conservation measures for this species by removing threats to its survival and protecting its habitat. If the dunes sagebrush lizard becomes listed in the future, the draft TCP will also serve as a Habitat Conservation Plan (HCP) in support of future applications for Incidental Take Permits under the Act. The draft TCP and the draft Environmental Assessment (EA) are available for public review, and we seek public comment on the potential issuance of the above permits.

DATES: Public meetings: Public meetings are not required for this level of analysis under the National Environmental Policy Act (NEPA). However, if the Applicant wishes to hold public meetings on the TCP, the Service will participate in these meetings and include any recorded comments on the draft EA in the final EA. This is provided that any public meeting is announced in local newspapers at least 14 days prior to the date of the meeting and the public meeting is held at least 14 days prior to the close of the comment period.

Comment-period end: To ensure consideration, please send your written comments by December 5, 2011.

ADDRESSES: Persons wishing to review the application, the draft TCP, the draft EA, or other related documents may obtain copies by written or telephone request to Allison Arnold, Southern Edwards Plateau Sub-Office, 512-203-5145 (U.S. mail address below). Electronic copies of these documents will also be available for review on the Austin Ecological Services Field Office Web site: http://www.fws.gov/southwest/es/AustinTexas/. The application and related documents will be available for public inspection, by appointment only, during normal business hours (8 a.m. to 4:30 p.m.) at the below San Antonio address.

Comments concerning the application, the draft TCP, the draft EA, or other related documents should be submitted in writing, by one of the following methods:

E-mail: dunessagebrushlizard@fws.gov.

U.S. mail: Allison Arnold, Southern Edwards Plateau Sub-Office, U.S. Fish and Wildlife Service, 12861 Galm Road, San Antonio, TX 78254. Please refer to Permit number TE-55322A-0 when submitting comments.

FOR FURTHER INFORMATION CONTACT: Allison Arnold at the U.S. Fish and Wildlife Service, Southern Edwards Plateau Sub-Office (address above) or Allison_Arnold@fws.gov (e-mail).

SUPPLEMENTARY INFORMATION: With the assistance of the Service, the Applicant proposes to implement conservation measures for the dunes sagebrush lizard (Sceloporus arenicolus) by removing threats to the survival of the species and protecting its habitat. The proposed conservation plan would be in effect for 30 years in west and northwest Texas. This area constitutes the TCP's Planning Area, with Covered Areas being private lands and State trust lands that provide suitable habitat or are being improved or restored to provide suitable habitat for the dunes sagebrush lizard. The Candidate Conservation Agreement with Assurances (CCAA) is in addition to a larger conservation effort for the dunes sagebrush lizard across its range within Texas and New Mexico. A combined Candidate Conservation Agreement and CCAA for the dunes sagebrush lizard, also known as the sand dune lizard, and the lesser prairie-chicken, among the Service, the Bureau of Land Management, and the Center of Excellence for Hazardous Materials Management, has been implemented to address conservation measures on Federal and non-Federal lands in New Mexico, since its signature on December 8, 2008. The TCP addressing conservation strategies across the dunes sagebrush lizard's range in Texas has been developed as a CCAA in support of a section 10(a)(1)(A) enhancement of survival permit and includes provisions to implement the TCP as an HCP in support of a potential section 10(a)(1)(B) incidental take permit should the species become listed in the future and a permit application is received under these provisions.

If approved, participants who are fully implementing the CCAA provisions of the TCP and enhancement of survival permit will be provided assurances that, should the dunes sagebrush lizard be listed, the Service will not require them to provide additional land, water, or financial resources, nor will there be any further restrictions to their land, water, or financial resources than they committed to under the CCAA provisions of the TCP (50 CFR 17.22(d) and 17.32(d)). Furthermore, if the dunes sagebrush lizard is listed, participants would be provided incidental take authorization under the enhancement of survival permit, through certificates of inclusion, for the level of incidental take on the enrolled lands consistent with the activities under the CCAA provisions of the TCP. Similar assurances would be provided through the HCP provisions of the TCP for participants who are fully implementing the HCP provisions and are covered by a potential incidental take permit and certificates of participation, if applicable (50 CFR 17.22(b) and 17.32(b)).

Background

The dunes sagebrush lizard is native to a small area of southeastern New Mexico and west Texas. The species only occurs in sand dune complexes associated with shinnery oak. Oil and gas development near dunal complexes, along with shinnery oak removal for the enhancement of forage production for grazing, has increased fragmentation of dunes sagebrush lizard habitat and gaps in the species' range. In 2001, the Service determined that listing of the dunes sagebrush lizard was warranted but precluded because of other higher priority species, and the species was designated as a candidate for listing under the Act.

The TCP was initiated in order to facilitate conservation and restoration of the dunes sagebrush lizard on private and State trust lands in Texas. Conservation benefits for the dunes sagebrush lizard are expected in the form of avoidance and minimization of potential incidental take, habitat enhancement and restoration, reduction of threats to the species, and mitigation of the effects of any incidental take, as appropriate. The Applicant also proposes to encourage creative partnerships among public, private, and government entities to conserve the dunes sagebrush lizard and its habitat. The Applicant has committed to guiding the implementation of the TCP and requests issuance of the enhancement of survival permit in order to address the take prohibitions of section 9 of the Act should the species become listed in the future.

The draft TCP Texas Conservation Plan and application for the enhancement of survival permit are not eligible for categorical exclusion under the National Environmental Policy Act (NEPA) of 1969. A draft Environmental Assessment has been prepared to further analyze the direct, indirect, and cumulative impacts of the TCP on the quality of the human environment and other natural resources.

Authority

We provide this notice under section 10(c) of the Act (16 U.S.C. 1531 et seq.) and its implementing regulations (50 CFR 17.22 and 17.32), and the National Environmental Policy Act (42 U.S.C 4371 et seq.) and its implementing regulations (40 CFR 1506.6).

Public Availability of Comments

All comments we receive become part of the public record. Requests for copies of comments will be handled in accordance with the Freedom of Information Act, NEPA, and Service and Department of the Interior policies and procedures. Before including your address, phone number, e-mail address, or other personal identifying information in your comment, you should be aware that your entire comment—including your personal identifying information—may be made publicly available at any time. While you can ask us to withhold your personal identifying information from public review, we cannot guarantee we will be able to do so.

Joy E. Nicholopoulos,
Acting Regional Director, Region 2, Albuquerque, New Mexico.

[FR Doc. 2011-25759 Filed 10-5-11; 8:45 am]

BILLING CODE 4310-55-P